DEPARTMENT OF ENERGY

Federal Energy Regulatory Commission

[Docket No. RP03-368-001]

Great Lakes Gas Transmission Limited Partnership; Notice of Proposed Changes in FERC Gas Tariff

July 10, 2003.

Take notice that on July 7, 2003, Great Lakes Gas Transmission Limited Partnership (Great Lakes) tendered for filing as part of its FERC Gas Tariff Second Revised Volume No. 1 the following tariff sheet, proposed to be effective July 1, 2003:

Substitute Ninth Revised Sheet No. 50C

Great Lakes states that this tariff sheet is being filed to comply with the Commission's Letter Order of June 25, 2003 in Docket No. RP03-368-000, wherein Great Lakes May 1, 2003 Order No. 587-R compliance filing was conditionally accepted pending filing of certain revised tariff sheets. Order No. 587-R adopted Version 1.6 of the standards promulgated by the Wholesale Gas Quadrant of the North American Energy Standards Board (NAESB).

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 21, 2003.

Magalie R. Salas,
Secretary.

[FR Doc. 03-18025 Filed 7-16-03; 8:45 am]

BILLING CODE 6717-01-P